DEPARTMENT OF THE TREASURY

Agency Information Collection Activities; Submission for OMB Review; Comment Request; Multiple Bureau of the Fiscal Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before December 31, 2018 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8142, Washington, DC 20220, or email at PRA@treasury.gov.

FOR FURTHER INFORMATION CONTACT: Copies of the submissions may be obtained from Jennifer Leonard by emailing PRA@treasury.gov, calling (202) 622-0489, or viewing the entire information collection request at www.reginfo.gov.

SUPPLEMENTARY INFORMATION:

Bureau of the Fiscal Service (FS)

Title: Trace Request for EFT Payments.

OMB Control Number: 1530-0002.

Type of Review: Revision of a currently approved collection.

Description: Used to notify the financial institutions that a beneficiary has claimed non-receipt of credit for a payment. The form is designed to help the financial institution locate any problem and to keep the beneficiary informed of any action taken.

Form: FMS-150-2, FS Form 150.1.

Affected Public: Businesses or other for-profits.

Estimated Number of Respondents: 26,895.

Frequency of Response: Annually.

Estimated Total Number of Annual Responses: 203,719.

Estimated Time per Response: .13 hours.

Estimated Total Annual Burden Hours: 27,162.

Title: Creditor's Request for Payment of Treasury Securities Belonging to a Decedent's Estate Being Settled Without Administration.

OMB Control Number: 1530-0027.

Type of Review: Revision of a currently approved collection.

Description: The information is requested to obtain a creditor's consent to dispose of savings bonds/notes in settlement of a deceased owner's estate without administration.

Form: FS Form 1050.

Affected Public: Businesses or other for-profits.

Estimated Number of Respondents: 1,500.

Frequency of Response: On occasion.

Estimated Total Number of Annual Responses: 1,500.

Estimated Time per Response: .10 hours.

Estimated Total Annual Burden Hours: 1,500.

Title: Application by Voluntary Guardian of Incapacitated Owner of United States Savings Bonds/Notes.

OMB Control Number: 1530-0031.

Type of Review: Revision of a currently approved collection.

Description: Used by voluntary guardian of incapacitated bond owner(s) to establish right to act of behalf of owner.

Form: PD F 2513.

Affected Public: Individuals or Households.

Estimated Number of Respondents: 1,000.

Frequency of Response: On occasion.

Estimated Total Number of Annual Responses: 1,000.

Estimated Time per Response: .33 hours.

Estimated Total Annual Burden Hours: 333.

Title: Application for Issue of United States Mortgage Guaranty Insurance Company Tax and Loss Bonds.

OMB Control Number: 1530-0052.

Type of Review: Revision of a currently approved collection.

Description: Submitted by companies engaged in the business of writing mortgage guaranty insurance for purpose of purchasing “Tax and Loss” bonds.

Form: FS Form 3871.

Affected Public: Businesses or other for-profits.

Estimated Number of Respondents: 33.

Frequency of Response: On occasion.

Estimated Total Number of Annual Responses: 33.

Estimated Time per Response: .25 hours.

Estimated Total Annual Burden Hours: 8.

Title: Disposition of Securities Belonging to a Decedent's Estate Being Settled Without Administration.

OMB Control Number: 1530-0055.

Type of Review: Revision of a currently approved collection.

Description: The information is collected from a voluntary representative of a decedent's estate to support a request for disposition of United States Treasury Securities and/or related payments in the event that the estate is not being administered.

Form: FS Form 5336.

Affected Public: Individuals or Households.

Estimated Number of Respondents: 25,350.

Frequency of Response: On occasion.

Estimated Total Number of Annual Responses: 25,350.

Estimated Time per Response: .5 hours.

Estimated Total Annual Burden Hours: 12,675.

Authority: 44 U.S.C. 3501 et seq.

Dated: November 27, 2018.
Jennifer P. Quintana,
Treasury PRA Clearance Officer.

[FR Doc. 2018-26064 Filed 11-29-18; 8:45 am]

BILLING CODE 4810-AS-P